DEPARTMENT OF COMMERCE

Foreign-Trade Zones Board

[B-50-2012]

Foreign-Trade Zone 104—Savannah, GA; Application for Reorganization (Expansion of Service Area) and Expansion of Zone Under Alternative Site Framework

An application has been submitted to the Foreign-Trade Zones (FTZ) Board (the Board) by the Savannah Airport Commission, grantee of FTZ 104, requesting authority to expand its service area and to expand the zone under the alternative site framework (ASF) adopted by the Board (15 CFR 400.2(c)). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the Foreign-Trade Zones Act, as amended (19 U.S.C. 81a-81u), and the regulations of the Board (15 CFR part 400). It was formally filed on July 17, 2012.

FTZ 104 was approved by the Board on October 6, 1983 (48 FR 46599, October 13, 1983) and reorganized under the ASF on January 12, 2011 (Board Order 1736, 76 FR 4865, January 27, 2011).

The zone project currently has a service area that includes the counties of Bulloch, Bryan, Chatham, Effingham, Evans, Liberty, Long and Screven. The applicant is requesting authority to expand the service area of the zone to include Columbia and Richmond Counties, as described in the application. If approved, the grantee would be able to serve sites throughout the expanded service area based on companies' needs for FTZ designation. The proposed expanded service area is adjacent to the Columbia, South Carolina Customs and Border Protection port of entry.

The applicant is also requesting approval of current temporary Sites 18, 19 and 20 as usage-driven sites as follows: Site 18 (210 acres)—Deere & Company, 6030 Horizon Parkway, 234 John Deere Parkway, 700 Horizon South Parkway, and 6015 Horizon West Parkway, Groveton; Site 19 (26 acres)—Bennett Distribution Services, 2340 Doug Bernard Parkway, Augusta; and, Site 20 (12 acres)—Bennett Distribution Services, 922 Molly Pond Road Augusta. Sites 18-20 were temporarily approved until 5/31/2014.

In accordance with the Board's regulations, Kathleen Boyce of the FTZ Staff is designated examiner to evaluate and analyze the facts and information presented in the application and case record and to report findings and recommendations to the Board.

Public comment is invited from interested parties. Submissions (original and 3 copies) shall be addressed to the Board's Executive Secretary at the address below. The closing period for their receipt is September 21, 2012. Rebuttal comments in response to material submitted during the foregoing period may be submitted during the subsequent 15-day period to October 9, 2012.

A copy of the application will be available for public inspection at the Office of the Executive Secretary, Foreign-Trade Zones Board, Room 2111, U.S. Department of Commerce, 1401 Constitution Avenue NW., Washington, DC 20230-0002, and in the “Reading Room” section of the Board's Web site, which is accessible via www.trade.gov/ftz. For further information, contact Kathleen Boyce at Kathleen.Boyce@trade.gov or (202) 482-1346.

Dated: July 17, 2012.
Pierre Duy,
Acting Executive Secretary.

[FR Doc. 2012-17928 Filed 7-20-12; 8:45 am]

BILLING CODE P